FEDERAL RETIREMENT THRIFT INVESTMENT BOARD

Notice of Board Meeting

DATES: July 27, 2021 at 10:00 a.m.

ADDRESSES: Telephonic. Dial-in (listen only) information: Number: 1-415-527-5035, Code: 199 692 9177; or via web: https://tspmeet.webex.com/tspmeet/onstage/g.php?MTID=e7c1325195f4c80b0f92bbfae0aab8be6.

FOR FURTHER INFORMATION CONTACT: Kimberly Weaver, Director, Office of External Affairs, (202) 942-1640.

SUPPLEMENTARY INFORMATION:

Board Meeting Agenda

Open Session

1. Approval of the June 29, 2021 Board Meeting Minutes

2. Monthly Reports

(a) Participant Activity Report

(b) Legislative Report

3. Quarterly Reports

(c) Investment Performance

(d) Budget Review

(e) Audit Status

4. Internal Audit Update

5. Converge Update

Closed Session

6. Information covered under 5 U.S.C. 552b(c)(9)(B).

Authority: 5 U.S.C. 552b(e)(1).

Dated: July 15, 2021.
Dharmesh Vashee,
General Counsel, Federal Retirement Thrift Investment Board.

[FR Doc. 2021-15471 Filed 7-20-21; 8:45 am]

BILLING CODE P